DEPARTMENT OF COMMERCE

National Oceanic and Atmospheric Administration

RIN 0648-XB167

Endangered and Threatened Species; Take of Anadromous Fish

AGENCY: National Marine Fisheries Service (NMFS), National Oceanic and Atmospheric Administration (NOAA), Commerce.

ACTION: Notice of availability.

SUMMARY: NMFS has completed a Draft Environmental Assessment (EA) for 10(a)(1)(A), Enhancement of the Species Permit Application for the collection and transport of Spring-Run Chinook for the San Joaquin River Restoration Program.

DATES: Written comments on the draft EA must be received at the appropriate address or fax number (see ADDRESSSES) no later than 5 p.m. Pacific Standard Time on May 21, 2012.

ADDRESSES: Written comments on the draft EA should be submitted to the Protected Resources Division, NMFS, 650 Capitol Mall, Suite 5-100, Sacramento, CA 95814. Comments may also be submitted via fax to (916) 930-6329 or by email to SJRSpring.Salmon@noaa.gov.

FOR FURTHER INFORMATION CONTACT: Elif Fehm-Sullivan, Sacramento, CA (ph: 916-930-3723, email: elif.fehm-sullivan@noaa.gov).

SUPPLEMENTARY INFORMATION: The EA is available for review upon written request or by appointment in the following office: the Protected Resources Division, NMFS, 650 Capitol Mall, Suite 5-100, Sacramento, CA 95814.; or on the Web site http://swr.nmfs.noaa.gov/sjrrestorationprogram/salmonreintroduction.htm or http://swr.nmfs.noaa.gov/nepa.htm.

This EA is for issuance of an Endangered Species Act section 10(a)(1)(A) permit to US Fish and Wildlife Service to collect Central Valley spring-run Chinook salmon eggs and juveniles from the Feather River Fish Hatchery to place into the San Joaquin Conservation Facility and enclosed net pens and egg boxes placed within the San Joaquin River, as an initial step to further the process of re-establishing this species in the San Joaquin River below Friant Dam.

Meetings

Three public meetings are to be held at which the public can make comments on the Draft EA. The first meeting will be held in Chico, CA on May 1 at the Chico Area Recreation and Park District, 545 Vallombrosa Avenue from 5:30 p.m. to 7:30 p.m. The second meeting will be in Fresno, CA on May 3 at the Fresno Metropolitan Flood Control District Board Meeting Room, 5469 E. Olive from 5:30 p.m. to 7:30 p.m. (The public should park in the front parking area (rear parking area closes at 5:30 p.m. with no exit after that time) and enter the door located on the west side of the front building); and the third meeting will be in Los Banos, CA on May 4 at the Los Banos Community Center, 645 7th Street from 2 p.m. to 4 p.m.

Dated: April 13, 2012.
Angela Somma,
Chief, Endangered Species Division, Office of Protected Resources, National Marine Fisheries Service.

[FR Doc. 2012-9479 Filed 4-18-12; 8:45 am]

BILLING CODE 3510-22-P